OVERSEAS PRIVATE INVESTMENT CORPORATION

September 15, 2005 Board of Directors Meeting

Time And Date: Thursday, September 15, 2005, 10 a.m. (Open Portion) 10:15 a.m. (Closed Portion).

Place: Offices of the Corporation, Twelfth Floor Board Room, 1100 New York Avenue, NW., Washington, DC.

Status: Meeting Open to the Public from 10 a.m. to 10:15 a.m. Closed portion will commence at 10:15 a.m. (approx.).

Matters To Be Considered:

1. President's Report.

2. Approval of July 28, 2005 Minutes (Open Portion).

Further Matters To Be Considered: (Closed to the Public 10:15 a.m.)

1. Proposed FY2007 Budget.

2. Finance Project—Russia.

3. Finance Project—Asia.

4. Finance Project—Eastern Europe and Turkey.

5. Finance Project—Mexico.

6. Approval of July 28, 2005 Minutes (Closed Portion).

7. Pending Major Projects.

8. Reports.

Contact Person For Information: Information on the meeting may be obtained from Connie M. Downs at (202) 336-8438.

Dated: September 1, 2005.
Connie M. Downs,
Corporate Secretary, Overseas Private Investment Corporation.

[FR Doc. 05-17724 Filed 9-1-05; 2:13 pm]

BILLING CODE 3210-01-M